DEPARTMENT OF AGRICULTURE

National Institute of Food and Agriculture

Notice of Intent To Extend and Revise a Previously Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to extend and revise a previously approved information collection, entitled NIFA Application Kit.

DATES: Written comments on this notice must be received by September 5, 2025 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Laura Givens, 816-527-5379, Laura.Givens@usda.gov.

SUPPLEMENTARY INFORMATION:

Title of Collection: NIFA Application Kit.

OMB Control Number: 0524-0039.

Expiration Date of Current Approval: 8/31/2025.

Type of Request: Notice of intent to extend and revise a previously approved information collection for three years.

Abstract: NIFA sponsors ongoing agricultural research, extension and education programs under which competitive, formula (capacity), and special awards of a high-priority nature are made. Because competitive applications are submitted, many of which necessitate review by peer panelists, it is important that applicants provide the information in a standardized process to ensure consistency for all applicants. Standardization is also important to applicants in other programs as it creates a more efficient process and minimizes administrative burden. For this reason, NIFA uses standard forms in the SF-424 Research and Related (R&R) form category which includes agency-specific forms for the application process. NIFA issues Requests for Application (RFAs) that include the instructions for preparation and submission of applications. NIFA requires submission of applications electronically through Grants.gov.

The forms and narrative information are mainly used for application evaluation and administration purposes. While some of the information is used to respond to inquiries from Congress and other government agencies, the forms are not designed to be statistical surveys.

NIFA is proposing to revise the collection by adding the “NIFA Disclosure of Foreign Relationships” form. This form will allow NIFA to perform legislatively mandated Due Diligence of Foreign Influence review of USDA's SBIR and STTR applicants. NIFA also proposes to add new general support templates that address confidentiality, conflict of interest, and summaries germane to the application submission. NIFA is also requesting approval to use additional OMB Research and Related (R&R) Common forms as part of this collection.

NIFA is seeking to make minor revisions to previously approved forms for purposes of making the forms easier to understand and use.

Finally, NIFA proposes to retire the “NIFA Entry/Exit Fellowship Form,” which is used to document demographic data, program progress, and performance outcomes of fellow/scholar recipients.

Respondents: Universities, non-profit institutions, State, local, or Tribal government, and a limited number of for-profit institutions and individuals.

Estimated Number of Respondents by form:

Letter of Intent: 3,000.

Form NIFA-2008 Assurance Statement(s): 3,000.

Supplemental Information: 6,000.

AFRI Project Type: 2,500.

Foreign Disclosure Form: 3,000.

The individual form burden is as follows (calculated based on a survey of grant applicants conducted by NIFA):

Letter of Intent: 2 hours.

Form NIFA-2008 Assurance Statement(s): 30 minutes.

Supplemental Information: 2 hours.

AFRI Project Type: 15 minutes.

Foreign Disclosure Form: 15 minutes.

Estimated Total Annual Burden on the public for all forms: 18,354 hours.

Frequency of Respondents: Annually.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Drenda Williams,
Associate Director for Operations, National Institute of Food and Agriculture, U.S. Department of Agriculture.

[FR Doc. 2025-12606 Filed 7-7-25; 8:45 am]

BILLING CODE 3410-22-P